DEPARTMENT OF COMMERCE

National Oceanic and Atmospheric Administration

Agency Information Collection Activities; Submission to the Office of Management and Budget (OMB) for Review and Approval; Comment Request; Natural Resource Damage Assessment Restoration Project Information Sheet

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 16th, 2022 during a 60-day comment period. This notice allows for an additional 30 days for public comments.

Agency: National Oceanic & Atmospheric Administration (NOAA), Commerce.

Title: Natural Resource Damage Assessment Restoration Project Information Sheet.

OMB Control Number: 0648-0497.

Form Number(s): None.

Type of Request: Regular submission (extension of a currently approved information collection).

Number of Respondents: 100.

Average Hours per Response: Reports 20 minutes, updates 10 minutes.

Burden Hours: 107.

Needs and Uses: This request is for renewal of a currently approved information collection. The purpose of this information collection is to assist state and federal Natural Resource Trustees in more efficiently carrying out the restoration planning phase of Natural Resource Damage Assessments (NRDA), in compliance with the National Environmental Policy Act of 1969, 42 U.S.C. 4321-4370d; 40 CFR 1500-1500 and other federal and local statutes and regulations as applicable. The NRDA Restoration Project Information Sheet is designed to facilitate the collection of information on existing, planned, or proposed restoration projects. This information will be used by the Natural Resource Trustees to develop potential restoration alternatives for natural resource injuries and service losses requiring restoration, during the restoration planning phase of the NRDA process. This information is provided by the public on a voluntary basis. The information provided benefits the public by informing the NRDA restoration process. However, there are no individual benefits that depend on the submission of information. Individuals can update the information as needed, but there is no required update frequency.

Affected Public: State, local, or tribal governments; Individuals or Households; Business or other For-Profits organizations; Not-For-Profit institutions; Farms; and the Federal Government.

Frequency: Annually and on occasion.

Respondent's Obligation: Voluntary.

Legal Authority: None.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0497.

Sheleen Dumas,
Department PRA Clearance Officer, Office of the Chief Information Officer, Commerce Department.

[FR Doc. 2022-22957 Filed 10-20-22; 8:45 am]

BILLING CODE 3510-22-P